DEPARTMENT OF COMMERCE

International Trade Administration

[C-475-819]

Certain Pasta From Italy: Preliminary Results of Countervailing Duty Administrative Review; 2015

AGENCY: Enforcement and Compliance, International Trade Administration, Department of Commerce.

SUMMARY: The Department of Commerce (the Department) is conducting an administrative review of the countervailing duty (CVD) order on certain pasta from Italy. The period of review (POR) is January 1, 2015, through December 31, 2015. We preliminarily find that the sole respondent under review, Liguori Pastificio dal 1820 S.p.A. (Liguori), received countervailable subsidies during the POR. Interested parties are invited to comment on these preliminary results.

DATES: Issued July 25, 2017.

FOR FURTHER INFORMATION CONTACT: Mary Kolberg, AD/CVD Operations, Office I, Enforcement and Compliance, International Trade Administration, U.S. Department of Commerce, 1401 Constitution Avenue NW., Washington, DC 20230; telephone: (202) 482-1785.

SUPPLEMENTARY INFORMATION:

Background

On July 5, 2016, the Department published a notice of an opportunity to request an administrative review of the countervailing duty order on certain pasta from Italy.¹ We received review requests from the following eight producers/exporters of the subject merchandise: (1) GR.A.M.M. S.R.L. (GR.A.M.M.); (2) La Fabbrica Della Pasta Di Gragnano S.A.S. di Antonio Moccia (La Fabbrica); (3) Liguori Pastificio dal 1820 S.p.A. (Liguori); (4) Pastificio Andalini S.p.A. (Andalini); (5) Pastificio Labor S.r.L.(Labor); (6) Pastificio Zaffiri S.r.l (Zaffiri); (7) Premiato Pastificio Afeltra S.r.l (Premiato); (8) Tesa SrL (Tesa).² On September 12, 2016, we initiated a review of the eight producers/exporters.³ On November 7, 2016, Tesa SrL withdrew its request for review.⁴ On October 27, 2016, we selected Liguori and Andalini as mandatory respondents in this review.⁵ On December 12, 2016, Andalini, GR.A.M.M., La Fabbrica, Labor, Premiato, and Zaffiri, withdrew their requests for administrative review.⁶ As a result of the timely withdrawals of their requests for review, we rescinded the administrative review with respect to these seven companies.⁷

¹ On July 5, 2016, we published a notice of “Opportunity to Request Administrative Review of the CVD Order.

² See Letter from Pastificio Zaffiri S.r.l. to the Department, “Certain Pasta from Italy, C-475-819; Request for Administrative Review by Pastificio Zaffiri S.r.l.,” (July 29, 2016); Letter from Pastificio Andalini, S.p.A., “Certain Pasta from Italy, C-475-819; Request for Administrative Review by Pastificio Andalini, S.p.A.,” (July 29, 2016); Letter from Premiato Pastificio Afeltra S.r.l.,”Certain Pasta from Italy, C-475-819; Request for Administrative Review by Premiato Pastificio Afeltra S.r.l.,” (July 29, 2016); Letter from La Fabbrica della Pasta di Gagnano S.A.S., “Certain Pasta from Italy, C-475-819; Request for Administrative Review by La Fabbrica della Pasta di Gragnano S.A.S.; Letter from Labor S.R.L., “Certain Pasta from Italy, C-475-819; Request for Administrative Review by Labor S.R.L.,” (July 29, 2016); Letter from GR.A.M.M. S.R.L., “Certain Pasta from Italy, C-475-819; Request for Administrative Review by GR.A.M.M. S.R.L.,” (July 29, 2016); Letter from Liguori Pastificio dal 1820 S.p.A., “Certain Pasta from Italy: Countervailing Duty Administrative Review Request,” (August 1, 2016); letter from Tesa SrL, “Pasta from Italy; Request for Administrative Review,” (August 1, 2016).

³ See Initiation of Antidumping and Countervailing Duty Administrative Reviews, 81 FR 62720 (September 12, 2016).

⁴ See Letter from Tesa SrL to the Department, “Pasta from Italy; Withdrawal of request for Administrative Review,” dated November 7, 2016.

⁵ See Letter to James Maeder, Senior Office Director, AD/CVD Operations, Office I, “Countervailing Duty Administrative Review of Certain Pasta from Italy: Respondent Selection,” dated October 27, 2016.

⁶ See Letter from Andalini to the Department, “Certain Pasta from Italy, C-475-819; Withdrawal of Request for Administrative Review by Pastificio Andalini, S.p.A.,” dated December 12, 2016; Letter from GR.A.M.M., “Certain Pasta from Italy, C-475-819; Withdrawal of Request for Administrative Review by GR.A.M.M. Srl,” (December 12, 2016); Letter from Premiato, “Certain Pasta from Italy, C-475-819; Withdrawal of Request for Administrative Review by Premiato Pastificio Afeltra S.r.l” (December 12, 2016); Letter from Labor, “Certain Pasta from Italy, C-475-819; Withdrawal of Request for Administrative Review by Labor Srl” (December 12, 2016); Letter from La Fabbrica, “Certain Pasta from Italy, C-475-819; Withdrawal of Request for Administrative Review by La Fabbrica della Pasta di Gragnano S.AS.” (December 12, 2016); Letter from Zaffiri, “Certain Pasta from Italy, C-475-819; Withdrawal of Request for Administrative Review by Pastificio Zaffiri S.r.l” (December 12, 2016).

⁷ See Certain Pasta from Italy: Partial Rescission of Countervailing Duty Administrative Review; 2015, 82 FR 820 (January 4, 2017).

Scope of the Order

The merchandise covered by this order is certain pasta from Italy and is currently classifiable under items 1901.90.90.95 and 1902.19.20 of the Harmonized Tariff Schedule of the United States (HTSUS). Although the HTSUS subheadings are provided for convenience and customs purposes, the written description of the merchandise subject to the order is dispositive.⁸

⁸ For a complete description of the scope of the order, see “Decision Memorandum for Preliminary Results of the Countervailing Duty Administrative Review: Certain Pasta from Italy,” from James Maeder, Senior Director performing the duties of Deputy Assistant Secretary for Antidumping and Countervailing Duty Operations, to Gary Taverman, Deputy Assistant Secretary for Antidumping and Countervailing Duty Operations, performing the non-exclusive functions and duties of the Assistant Secretary for Enforcement and Compliance, dated concurrently with this notice (Preliminary Decision Memorandum).

Methodology

We are conducting this review in accordance with section 751(a)(1)(A) of the Tariff Act of 1930, as amended (the Act). For each of the subsidy programs found to be countervailable, we preliminarily find that there is a subsidy, i.e., a government-provided financial contribution that gives rise to a benefit to the recipient, and that the subsidy is specific.⁹ For a full description of the methodology underlying our conclusions, see the Preliminary Decision Memorandum. The Preliminary Decision Memorandum is a public document and is on file electronically via Enforcement and Compliance's Antidumping and Countervailing Duty Centralized Electronic Service System (ACCESS). ACCESS is available to registered users at https://access.trade.gov and in the Central Records Unit, Room B8024 of the main Department of Commerce building. In addition, a complete version of the Preliminary Decision Memorandum can be accessed directly on the internet at http://enforcement.trade.gov/frn/index.html. The signed Preliminary Decision Memorandum and the electronic version of the Preliminary Decision Memorandum are identical in content.

⁹ See sections 771(5)(B) and (D) of the Act regarding financial contribution; section 771(5)(E) of the Act regarding benefit; and, section 771(5A) of the Act regarding specificity.

Preliminary Results of the Review

In accordance with 19 CFR 351.221(b)(4)(i), we calculated the following individual countervailable subsidy rate for the mandatory respondent, Liguori, for the period January 1, 2015 through December 31, 2015:

Producer/exporter | Net subsidy rate (percent)
Liguori Pastificio dal 1820 S.p.A. (Liguori) | 1.62

Disclosure and Public Comment

We will disclose to parties in this review the calculations performed in reaching the preliminary results within five days of publication of these preliminary results.¹⁰ Interested parties may submit written comments (case briefs) on the preliminary results no later than 30 days from the date of publication of this Federal Register notice, and rebuttal comments (rebuttal briefs) within five days after the time limit for filing case briefs.¹¹ Pursuant to 19 CFR 351.309(d)(2), rebuttal briefs must be limited to issues raised in the case briefs. Parties who submit arguments are requested to submit with the argument: (1) A statement of the issue; (2) a brief summary of the argument; and (3) a table of authorities.¹²

¹⁰ See 19 CFR 351.224(b).

¹¹ See 19 CFR 351.309(c)(1)(ii) and 351.309(d)(1).

¹² 19 CFR 351.309(c)(2) and (d)(2).

Pursuant to 19 CFR 351.310(c), interested parties who wish to request a hearing must submit a written request to the Assistant Secretary for Enforcement and Compliance, filed electronically via ACCESS by 5 p.m. Eastern Time within 30 days after the date of publication of this notice.¹³ Hearing requests should contain: (1) The party's name, address, and telephone number; (2) the number of participants; and (3) a list of the issues to be discussed. Issues addressed at the hearing will be limited to those raised in the briefs. If a request for a hearing is made, parties will be notified of the date and time for the hearing to be held at the U.S. Department of Commerce, 1401 Constitution Avenue NW., Washington, DC 20230.¹⁴ The Department intends to issue the final results of this administrative review, including the results of our analysis of the issues raised by the parties in their comments, no later than 120 days after the date of publication of this notice, pursuant to section 751(a)(3)(A) of the Act and 19 CFR 351.213(h), unless this deadline is extended.

¹³ See 19 CFR 351.310(c).

¹⁴ See 19 CFR 351.310(d).

Assessment Rates

In accordance with 19 CFR 351.221(b)(4)(i), we have preliminarily assigned a subsidy rate to the sole producer/exporter subject to this administrative review. Upon issuance of the final results, the Department will determine, and U.S. Customs and Border Protection (CBP) shall assess, countervailing duties on all appropriate entries covered by this review. We intend to issue instructions to CBP 15 days after publication of the final results of this review.

Cash Deposit Requirements

In accordance with section 751(a)(1) of the Act, the Department intends to instruct CBP to collect cash deposits of estimated countervailing duties in the amount shown above for Liguori on shipments of subject merchandise entered, or withdrawn from warehouse, for consumption on or after the date of publication of the final results of this administrative review. For all non-reviewed firms, we will instruct CBP to continue to collect cash deposits at the most recent company specific or all-others rate applicable to the company. These cash deposit requirements, when imposed, shall remain in effect until further notice.

These preliminary results and notice are issued and published in accordance with sections 751(a)(1) and 777(i) of the Act and 19 CFR 351.221(b)(4).

Dated: July 18, 2017.
Gary Taverman,
Deputy Assistant Secretary for Antidumping and Countervailing Duty Operations, performing the non-exclusive functions and duties of the Assistant Secretary for Enforcement and Compliance.

Appendix

List of Topics Discussed in the Preliminary Decision Memorandum:

I. Summary

II. Background

III. Scope of the Order

IV. Partial Rescission of the Order

V. Subsidies Valuation Information

VI. Analysis of Programs

VII. Recommendation

[FR Doc. 2017-15562 Filed 7-24-17; 8:45 am]

BILLING CODE 3510-DS-P